ENVIRONMENTAL PROTECTION AGENCY

[FRL-6866-4]

Regulatory Reinvention (XL) Pilot Projects

AGENCY: Environmental Protection Agency.

ACTION: Notice of availability of the Project XL Draft Final Project Agreement: Lead-Safe Boston.

SUMMARY: EPA is requesting comments on a draft Project XL Final Project Agreement (FPA) for Lead-Safe Boston (LSB). LSB is a program operated by the City of Boston's Department of Neighborhood Development that collaborates with state agencies and private organizations to prevent lead poisoning of young children by working to control lead hazards in Boston's highest risk areas. The FPA is a voluntary agreement developed collaboratively by LSB, Massachusetts Department of Environmental Protection (MA DEP), the United States Department of Housing and Urban Development (HUD) and the United States Environmental Protection Agency (US EPA). Project XL, announced in the Federal Register on May 23, 1995 (60 FR 27282), gives regulated entities the opportunity to develop alternative strategies that will replace or modify specific regulatory requirements, policies, procedures and guidance on the condition that they produce greater environmental benefits.

In this XL project, LSB seeks to utilize provisions in the RCRA Household Waste Exclusion (HWE) Rule at 40 CFR 261.4(b)(1) to allow lead-based paint (LBP) debris from residential housing units to be disposed of as household waste. Disposing of LBP debris as a household waste will reduce the cost of lead abatements in residential housing. As part of this project, LSB has pledged to utilize the cost savings made available through implementation of this XL project to perform approximately 12 additional residential lead abatements that will reduce lead exposure risks for roughly 30 children in Boston's Dorchester and Roxbury neighborhoods.

These additional residential abatements will be pursued according to HUD procedures. The HWE provisions utilized by LSB in this project will also be made available on a nationwide basis to any individual or contractor performing lead abatement activities in residential housing units—ultimately sparing thousands of children from lead poisoning.

DATES: The period for submission of comments ends on September 21, 2000.

ADDRESSEES: All comments on the draft Final Project Agreement should be sent to: Michael Hill One Congress Street Suite 1100 (M/C CMA), Boston, MA 02114-2023. Comments may be faxed to Mr. Hill at 617-918-1505.

FOR FURTHER INFORMATION: To obtain a copy of the draft Final Project Agreement, contact Michael Hill, US EPA, Region I, One Congress Street, Suite 1100 (M/C CMA), Boston, MA 02114-2023). The FPA and related documents are also available via the Internet at the following location: http://www.epa.gov/ProjectXL. In addition, the draft FPA is available at the Lead-Safe Boston, 38 Winthrop Street, Boston 02136. Questions to EPA regarding the documents can be directed to Michael Hill at (617) 918-1398 or John DuPree at (202) 260-4468. Questions to LSB regarding this project can be directed to Kenneth Griffin at Lead-Safe Boston, 38 Winthrop Street, Boston, MA 02136. Mr. Griffin's telephone number is (617) 635-0444. For information on all other aspects of the XL Program contact Nancy Birnbaum at the following address: Office of Policy Economics and Innovation, United States Environmental Protection Agency, 1200 Pennsylvania Avenue NW., Washington, DC 20460, Room M3802 (1802), Washington, DC 20460. Additional information on Project XL, including documents referenced in this notice, other EPA policy documents related to Project XL, regional XL contacts, application information, and descriptions of existing XL projects and proposals, are available via the Internet at http://www.epa.gov/ProjectXL.

Dated: August 31, 2000.
Elizabeth A. Shaw,
Director, Office of Environmental Policy Innovation.

[FR Doc. 00-22975 Filed 9-6-00; 8:45 am]

BILLING CODE 6560-50-P